DEPARTMENT OF DEFENSE

Department of the Army

Availability of Novel Dendrimer Technologies for Exclusive, Partially Exclusive or Non-Exclusive Licenses

AGENCY: U.S. Army Research Laboratory, DoD.

ACTION: Notice of availability.

SUMMARY: The Department of the Army announces the general availability of exclusive, partially exclusive or non-exclusive licenses relative to novel dendrimer based technologies as described in U.S. Patent applications “One-Pot Synthesis of Functional Dendrigrafts and their Block Copolymers with Simple Initiating Systems” (09/356802 filed 7/19/98) and “Methods of using Nanomanipulation for Enhancing Bio-Assay Performance” (09/448403 filed 11/22/99). Licenses shall comply with 35 U.S.C. 209 and 37 CFR 404.

FOR FURTHER INFORMATION CONTACT: Michael D. Rausa, U.S. Army Research Laboratory, Office of Research and Technology Applications, ATTN: AMSRL-CS-TT/Bldg. 459, Aberdeen Proving Ground, Maryland 21005-5425, Telephone: (410) 278-5028.

SUPPLEMENTARY INFORMATION: None.

Luz D. Ortiz,
Army Federal Register Liaison Officer.

[FR Doc. 01-26676 Filed 10-22-01; 8:45 am]

BILLING CODE 3710-08-M